DEPARTMENT OF ENERGY

Federal Energy Regulatory Commission

[Docket No. RP04-36-000]

Enbridge Pipelines (KPC); Notice of Extension of Time

June 25, 2004.

On June 21, 2004, Enbridge Pipelines (KPC) filed a motion for an extension of time to file an answer to intervenors' concerns as directed by the Commission's Letter Order issued June 2, 2004, in the above-docketed proceeding, 107 FERC ¶ 61,244 (2004). The motion states that due to the unavailability of key personnel, additional time is needed for the preparation of a response. The motion further states that the Missouri Public Service Commission, the Kansas Corporation Commission, Missouri Gas Energy and Kansas Gas Service, Inc. do not oppose the motion for additional time.

Upon consideration, notice is hereby given that an extension of time for the filing of a response is granted to and including July 22, 2004, as requested by Enbridge KPC.

Magalie R. Salas,
Secretary.

[FR Doc. E4-1448 Filed 6-30-04; 8:45 am]

BILLING CODE 6717-01-P